DEPARTMENT OF COMMERCE

National Oceanic and Atmospheric Administration

50 CFR Part 300

[Docket No. 0907301169-91204-01]

RIN 0648-AY02

Fraser River Sockeye and Pink Salmon Fisheries; Notification of Inseason Orders; Correction

AGENCY: National Marine Fisheries Service (NMFS), National Oceanic and Atmospheric Administration (NOAA), Commerce.

ACTION: Final rule; correction

SUMMARY: NMFS publishes Fraser River salmon inseason orders to regulate salmon fisheries in U.S. waters. NMFS maintains a telephone hotline to notify the public of these inseason orders. The telephone number for the hotline that is specified in the Code of Federal Regulations (CFR) is obsolete. This action corrects the language in the CFR to remove that number and specify that the correct telephone number for the hotline is included in the annual management measures for West Coast Salmon Fisheries, published in the Federal Register.

DATES: Effective August 31, 2009.

FOR FURTHER INFORMATION CONTACT: Peggy Busby at 206-526-4323.

SUPPLEMENTARY INFORMATION: 50 CFR part 300, subpart F—Fraser River Sockeye and Pink Salmon Fisheries, implements the Pacific Salmon Treaty Act of 1985. Section 300.97 authorizes the Secretary of Commerce to issue orders that establish fishing times and areas consistent with the annual Pacific Salmon Commission regime and inseason orders of the Fraser River Panel. These orders establish fishing dates, times, and areas for the gear types of U.S. treaty Indian fisheries and for all-citizen fisheries during the period the Panel exercises jurisdiction over these fisheries. Section 300.97(b)(1) specifies a toll-free telephone hotline for NMFS to use to notify the public of orders applicable to all-citizen fisheries. The currently published all-citizen fisheries hotline is 1-800-562-6513. Due to changes in telephone technology, that telephone number is no longer correct.

This action removes that incorrect number and amends the CFR to specify that the correct all-citizen fisheries hotline telephone number is included in the inseason notice procedures section of the annual management measures for West Coast Salmon Fisheries, published in the Federal Register. The treaty Indian fisheries hotline is unaffected by this correction.

Classification

Pursuant to 5 U.S.C. 553(b)(B), the Assistant Administrator finds good cause to waive prior notice and opportunity for additional public comment for this action because any delay of this action would be contrary to the public interest. As stated above, this rule removes the obsolete telephone number currently published in the CFR, and amends the CFR to specify that the correct hotline telephone number is published annually in the Federal Register with the annual management measures for West Coast Salmon. This correction notice will eliminate confusion regarding accessing regulatory information on the Fraser River sockeye salmon fisheries, projected to begin in July. Additionally, pursuant to 5 U.S.C. 553(d), the Assistant Administrator finds good cause to waive the 30-day delay in effective date because a delay in implementing this correction may negatively impact the public's ability to access regulatory measures in a timely manner. No aspect of this action is controversial and no change in operating practices in the fishery is required.

Because prior notice and opportunity for public comment are not required for this rule by 5 U.S.C. 553, or any other law, the analytical requirements of the Regulatory Flexibility Act, 5 U.S.C. 601 et seq., are inapplicable.

This final rule is exempt from review under Executive Order 12866.

List of Subjects in 50 CFR Part 300

Administrative practice and procedure, Fisheries, Reporting and recordkeeping requirements.

Dated: August 25, 2009.
John Oliver,
Deputy Assistant Administrator For Operations, National Marine Fisheries Service.

For the reasons set forth in the preamble, 50 CFR part 300 is amended as follows:

PART 300—INTERNATIONAL FISHERIES REGULATIONS

1. The authority citation for part 300 continues to read as follows:

Authority: Pacific Salmon Treaty Act, 16 U.S.C. 3636(b).

2. In § 300.97, paragraph (b)(1) is revised to read as follows:

§ 300.97 Inseason orders.

(b) Notice of inseason orders. (1) Official notice of such inseason orders is available from NMFS (for orders applicable to all-citizen fisheries) and from the Northwest Indian Fisheries Commission (for orders applicable to treaty Indian fisheries) through Area Code 206 toll-free telephone hotlines. All-citizen fisheries: the hotline telephone number is published in the inseason notice procedures section of the annual management measures for West Coast Salmon Fisheries, published in the Federal Register; Treaty Indian fisheries hotline: 1-800-562-6142.

[FR Doc. E9-20953 Filed 8-28-09; 8:45 am]

BILLING CODE 3510-22-S